DEPARTMENT OF AGRICULTURE

Forest Service

Fresno County Resource Advisory Committee

AGENCY: Forest Service, USDA.

ACTION: Notice of meeting.

SUMMARY: The Fresno County Resource Advisory Committee will be meeting in Prather, California, on August 15 and 29, 2012 and September 12, 2012 at 6:00 p.m. The purpose of the August 15 and 29 meetings will be to review new project proposals. The purpose of the meeting on September 12 will be to vote and approve projects to be funded under the Secure Rural Schools and Community Self-Determination Act of 2000 (Pub. L. 110-343).

DATES: The meetings will be held on August 15 and 29 and September 12. All meetings will begin at 6:00 p.m. in Prather, CA at the High Sierra District Office.

ADDRESSES: All meetings will be located at the High Sierra District Office, 29688 Auberry Rd., Prather, California. Send written comments to Darcy Brown, Fresno County Resource Advisory Committee Coordinator, c/o Sierra National Forest, High Sierra Ranger District, P.O. Box 559, Prather, CA 93651. Electronic comments should be sent to DLBrown02@fs.fed.us.

FOR FURTHER INFORMATION CONTACT: Darcy Brown, Fresno County Resource Advisory Committee Coordinator, (559) 855-5355 ext. 3374.

Ray Porter,
District Ranger, High Sierra Ranger District, Sierra National Forest.

[FR Doc. 2012-18467 Filed 7-30-12; 8:45 am]

BILLING CODE 3410-11-M